DEPARTMENT OF COMMERCE

Bureau of the Census

Request for Nominations of Members To Serve on the Federal Economic Scientific Advisory Committee

AGENCY: Bureau of the Census, Department of Commerce.

ACTION: Notice of request for nominations.

SUMMARY: The Secretary of Commerce is requesting nominations of individuals to the Federal Economic Scientific Advisory Committee. The Secretary will consider nominations received in response to this notice, as well as from other sources. The SUPPLEMENTARY INFORMATION section of this notice provides committee and membership criteria.

DATES: Please submit nominations by October 9, 2012.

ADDRESSES: Please submit nominations to B.K. Atrostic, Designated Federal Official for Federal Economic Statistics Advisory Committee, U.S. Census Bureau, Room 2K267, 4600 Silver Hill Road, Washington, DC 20233. Nominations also may be submitted via fax at 301-763-5935, or by email to barbara.kathryn.atrostic@census.gov.

FOR FURTHER INFORMATION CONTACT: B.K. Atrostic, Designated Federal Official for Federal Economic Statistics Advisory Committee, U.S. Census Bureau, Room 2K267, 4600 Silver Hill Road, Washington, DC 20233., telephone (301) 763-6442.

SUPPLEMENTARY INFORMATION: The Committee was established in accordance with the Federal Advisory Committee Act (as amended, Title 5, United States Code, Appendix 2). The following provides information about the committee, membership, and the nomination process:

Objective and Duties

1. The Federal Economic Statistics Advisory Committee (the “Committee”) is administratively housed at the Economics and Statistics Administration (ESA), U.S. Department of Commerce. The Committee advises Directors of ESA's two statistical agencies, the Bureau of Economic Analysis (BEA) and the Census Bureau (Census), and the Commissioner of the Department of Labor's Bureau of Labor Statistics (BLS) (“the agencies”) on statistical methodology and other technical matters related to the collection, tabulation, and analysis of federal economic statistics.

2. The Committee functions solely as an advisory committee to the senior officials of BEA, Census and BLS in consultation with the Committee chairperson.

3. Important aspects of the Committee's responsibilities include, but are not limited to:

a. Recommending research to address important technical problems arising in federal economic statistics.

b. Identifying areas in which better coordination of the agencies' activities would be beneficial.

c. Establishing relationships with professional associations with an interest in federal economic statistics.

d. Coordinating, in its identification of agenda items, with other existing academic advisory committees chartered to provide agency-specific advice, for the purpose of avoiding duplication of effort.

4. The Committee reports to the Under Secretary for Economic Affairs who, as head of ESA, coordinates and collaborates with the agencies.

Membership

1. The Committee consists of approximately fourteen members who serve at the pleasure of the Secretary of Commerce.

2. Members are nominated by the Department of Commerce, in consultation with the agencies, under the coordination of the Under Secretary for Economic Affairs, and appointed by the Secretary.

3. Committee members are economists, statisticians, survey methodologists, and behavioral scientists, and are chosen to achieve a balanced membership across those disciplines.

4. Members shall be prominent experts in their fields, and recognized for their scientific and professional achievements and objectivity.

a. Members serve as Special Government Employees (SGEs) and are subject to ethics rules applicable to SGEs.

b. Members serve three-year terms. Members may be reappointed to any number of additional three-year terms.

c. Should a committee member be unable to complete a three-year term, a new member may be selected to complete that term for the duration of the time remaining or begin a new term of three years.

d. The agencies, by consensus agreement, shall appoint the chairperson annually from the committee membership. Chairpersons shall be permitted to succeed themselves.

Miscellaneous

1. Members of the Committee will not be compensated for their services, but will be reimbursed for travel expenses upon request.

2. The Committee meets approximately twice a year, budget permitting. Special meetings may be called when appropriate.

Nomination Information

1. Nominations are requested as described above.

2. Nominees must be economists, statisticians, survey methodologists, and behavioral scientists and will be chosen to achieve a balanced membership across those disciplines. Nominees must be prominent experts in their fields, and recognized for their scientific and professional achievements and objectivity. Such knowledge and expertise are needed to advise the agencies on statistical methodology and other technical matters related to the collection, tabulation, and analysis of federal economic statistics.

3. Individuals, groups, and/or organizations may submit nominations on behalf of an individual candidate. A summary of the candidate's qualifications (résumé or curriculum vitae) must be included along with the nomination letter. Nominees must be able to actively participate in the tasks of the Committee, including, but not limited to regular meeting attendance, committee meeting discussant responsibilities, and review of materials, as well as participation in conference calls, webinars, working groups, and special committee activities.

4. The Department of Commerce is committed to equal opportunity in the workplace and seeks diverse Committee membership.

Dated: August 30, 2012.
Thomas L. Mesenbourg, Jr.,
Acting Director, Bureau of the Census.

[FR Doc. 2012-22106 Filed 9-6-12; 8:45 am]

BILLING CODE 3510-07-P